DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 26, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Special Supplemental Nutrition Program for Women, Infants, and Children (WIC) Program Regulations—Reporting and Recordkeeping Burden.

OMB Control Number: 0584-0043.

Summary of Collection: The Special Supplemental Nutrition Program for Women, Infants, and Children (WIC) provides supplemental foods, nutrition education, including breastfeeding promotion and support, and health care referrals to low income, nutritionally at-risk pregnant, breastfeeding and postpartum women, infants, and children up to age five. Currently, WIC operates through State health departments in 50 States, 33 Indian Tribal Organizations, American Samoa, District of Columbia, Guam, Commonwealth of the Northern Mariana Islands, Puerto Rico, and the Virgin Islands. The Federal regulations governing the WIC Program (7 CFR part 246) require that certain program-related information be collected and that full and complete records concerning WIC operations are maintained. The WIC Program is authorized by the Child Nutrition Act of 1966, as amended.

In accordance with the Child Nutrition Act of 1996, as amended the final rule titled, Special Supplemental Nutrition Program for Women, Infants and Children (WIC), revised regulations to align the WIC food packages with the current Dietary Guidelines for Americans and to reflect recommendations from the National Academies of Science, Engineering, and Medicine while promoting nutrition security and equity and considering program administration. As a result, the changes made encourages fruit and vegetable consumption; addresses key nutritional needs to support healthy dietary patterns; provides greater flexibility, variety, and choice to accommodate personal and cultural food preferences and special dietary needs; and strengthens support for individual breastfeeding goals to help establish long-term breastfeeding.

Need and Use of the Information: The Food and Nutrition Service (FNS) collects information from state and local agencies, applicants, and retail vendors to determine eligibility in the WIC Program. This ongoing information collection is mandatory for state agencies and required to obtain or retain benefits for the WIC participants. The information collection includes an explanation to participants about the food package changes, identification of foods acceptable for use in the Program for each State agency and vendor application and agreement information. The foods provided in the WIC food package are critical to the integrity of the Program and its mission to provide the nutrition needed during periods of rapid growth and development among infants, children, and pregnant, postpartum, and breastfeeding individuals. The vendor application and agreement information are necessary to ensure that vendors comply with the updated stocking requirements in the rule so that participants have access to a greater variety of vegetables. The information is also used by FNS to manage, plan, evaluate, make decisions, and report on WIC Program operations. If the information were not collected, the efficiency and effectiveness of the Program would be jeopardized, improper use of Federal funds would increase, and FNS' ability to detect violations would diminish greatly.

Description of Respondents: Individuals or Households; Businesses or Other for Profit; Not-for profit institutions; and State, Local, or Tribal Government.

Number of Respondents: 6,283,126.

Frequency of Responses: Recordkeeping; Reporting: Quarterly; Semi-annually; Monthly; Annually; and as Needed.

Total Burden Hours: 17,362,904.

Rachelle Ragland-Greene,
Departmental Information Collection Clearance Officer.

[FR Doc. 2024-16413 Filed 7-24-24; 8:45 am]

BILLING CODE 3410-30-P